NUCLEAR REGULATORY COMMISSION

[Docket No. 72-1051; NRC-2018-0052]

Holtec International HI-STORE Consolidated Interim Storage Facility Project

AGENCY: Nuclear Regulatory Commission.

ACTION: Environmental impact statement; issuance.

SUMMARY: The U.S. Nuclear Regulatory Commission (NRC) is issuing its final Environmental Impact Statement (FEIS), NUREG-2237, “Environmental Impact Statement for the Holtec International's License Application for a Consolidated Interim Storage Fancily for Spent Nuclear Fuel in Lea County, New Mexico.” Holtec International (Holtec) has requested a license to construct and operate a consolidated interim storage facility (CISF) for spent nuclear fuel (SNF) and Greater-Than-Class C (GTCC) waste, along with a small quantity of mixed oxide (MOX) fuel. The proposed CISF would be located in southeast New Mexico at a site located approximately halfway between the cities of Carlsbad and Hobbs. The proposed action is the issuance of an NRC license authorizing a CISF to store up to 8,680 metric tons of uranium (MTUs) [9,568 short tons] of SNF in 500 canisters for a license period of 40 years.

DATES: The FEIS referenced in this document is available on July 13, 2022.

ADDRESSES: Please refer to Docket ID NRC-2018-0052 when contacting the NRC about the availability of information regarding this document. You may obtain publicly available information related to this document using any of the following methods:

• Federal Rulemaking Website: Go to https://www.regulations.gov and search for Docket ID NRC-2018-0052. Address questions about Docket IDs in Regulations.gov to Stacy Schumann; telephone: 301-415-0624; email: Stacy.Schumann@nrc.gov. For technical questions, contact the individual listed in the “For Further Information Contact” section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The FEIS is available in ADAMS under Accession No. ML22181B094.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

• Project Web Page: Information related to the Holtec CISF project can be accessed on the NRC's project web page at https://www.nrc.gov/waste/spent-fuel-storage/cis/holtec-international.html. Scroll down to the Section “Environmental Impact Statement”

• Public Libraries: A copy of the FEIS will be made available at the following public libraries:

Carlsbad Public Library, 101 S Halaqueno Street, Carlsbad, NM 88220

Roswell Public Library, 301 N Pennsylvania, Roswell, NM 88201

Hobbs Public Library, 509 N Shipp Street, Hobbs, NM 88240

FOR FURTHER INFORMATION CONTACT: Jill S. Caverly, Office of Nuclear Material Safety and Safeguards, U.S. Nuclear Regulatory Commission, Washington, DC 20555-0001, telephone: 301-415-7674, email: Jill.Caverly@nrc.gov.

SUPPLEMENTARY INFORMATION:

I. Background

In accordance with section 51.118 of title 10 of the Code of Federal Regulations (10 CFR) “Final environmental impact statement—notice of availability,” the NRC is making available NUREG-2237, which concerns the NRC's FEIS for the license application submitted by Holtec to construct and operate a CISF for SNF and GTCC waste, along with a small quantity of MOX fuel, which are collectively referred to in the EIS as SNF and composed primarily of spent uranium-based fuel. The NRC published notice of the draft EIS in the Federal Register on March 20, 2020 (85 FR 16150), and the U.S. Environmental Protection Agency noticed the availability of the draft EIS on March 20, 2020 (85 FR 16093). The public comment period on the draft EIS ended on September 22, 2020, and the comments received are addressed in the FEIS. The FEIS is available as indicated in the ADDRESSES section of this document.

II. Discussion

The NRC is issuing the FEIS for an application from Holtec requesting a license to authorize construction and operation of a CISF for SNF at a site located approximately halfway between Carlsbad and Hobbs, New Mexico. The proposed CISF project would be built and operated on approximately 421 hectares (ha) [1,040 acres (ac)] of land in Lea County, New Mexico. The storage and operations area, which is a smaller land area within the full property boundary, would include 134 ha [330 ac] of disturbed land. The proposed project area is approximately 51 kilometers (km) [32 miles (mi)] east of Carlsbad, New Mexico, and 54 km [34 mi] west of Hobbs, New Mexico. The proposed action is the issuance of an NRC license authorizing a CISF to store up to 8,680 MTUs [9,568 short tons] of SNF in 500 canisters for a period of 40 years.

The FEIS is being issued as part of the NRC's process to decide whether to issue a license to Holtec pursuant to 10 CFR part 72. In this FEIS, the NRC staff has assessed the potential environmental impacts to construct and operate the proposed CISF. The NRC staff assessed the impacts of the proposed action and the No-Action alternative on land use; transportation; geology and soils; water resources; ecological resources; air quality; noise; historical and cultural resources; visual and scenic resources; socioeconomics; environmental justice, public and occupational health, and waste management. Additionally, the FEIS analyzes and compares the benefits and costs of the proposed action and the No-Action alternative. In preparing this FEIS, the NRC staff also considered, evaluated, and addressed the public comments received on the draft EIS. Appendix D of the FEIS summarizes the public comments received and the NRC's responses.

After comparing the impacts of the proposed action to those of the No-Action alternative, the NRC staff, in accordance with the requirements in 10 CFR part 51, recommends the proposed action, subject to the determinations in the staff's safety review of the application. This recommendation is based on (i) the Holtec license application, which includes an environmental report and supplemental documents, and Holtec's responses to the NRC staff's requests for additional information; (ii) the NRC staff's consultation with Federal, State, Tribal, local agencies, and input from other stakeholders, including members of the public; (iii) the NRC staff's independent review; and (iv) the NRC staff's assessments provided in the FEIS.

Dated: July 14, 2022.
For the Nuclear Regulatory Commission.
John M. Moses,
Deputy Director, Division of Rulemaking, Environmental, and Financial Support, Office of Nuclear Material Safety, and Safeguards.

[FR Doc. 2022-15432 Filed 7-21-22; 8:45 am]

BILLING CODE 7590-01-P